ENVIRONMENTAL PROTECTION AGENCY

[ER-FRL-8589-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft Environmental Impact Statements (EISs) was published in Federal Register dated April 6, 2008 (73 FR 19833).

Draft EISs

EIS No. 20080360, ERP No. D-NOA-D91001-00, Amendment 1 to the 2006 Consolidated Highly Migratory Species (HMS) Fishery Management Plan (FMP), Updating and Revising Essential Fish Habitat (EFH) for Atlantic Highly Migratory Species (HMS), consider additional Habitat Area of Particular Concern (HAPC) and Analyze Fishing Impacts, Chesapeake Bay, MD, Delaware Bay, DE, Great Bay, NJ and Outer Bank off NC

Summary: While EPA has no objection to the proposed action, it did request clarification on fishing gear impacts and monitoring plans. Rating LO.

EIS No. 20080426, ERP No. D-BLM-J01083-WY, South Gillette Area Coal Lease Applications, WYW172585, WYW173360, WYW172657, WYW161248, Proposal to Lease Four Tracts of Federal Coal Reserves, Belle Ayr, Coal Creek, Caballo, and Cordero Rojo Mines, Wyoming Powder River Basin, Campbell County, WY

Summary: EPA expressed environmental concerns about the potential for adverse impacts to air quality in the Powder River Basin. Rating EC2.

EIS No. 20080447, ERP No. D-AFS-F65072-WI, Camp Four Vegetation Project, Proposes Vegetation and Road Management Activities, Desired Future Condition (DFC), Medford-Park Falls Ranger District, Chequamegon-Nicolet National Forest, Price County, WI

Summary: EPA does not object to the preferred alternative. Rating LO.

Final EISs

EIS No. 20080423, ERP No. F-AFS-J65517-SD, West Rim Project, Proposes to Implement Multiple Resource Management Actions, Northern Hills Ranger District, Black Hills National Forest, Lawrence County, SD

Summary: No formal comment letter was sent to the preparing agency.

EIS No. 20080455, ERP No. F-AFS-J65403-00, Southern Rockies Canada Lynx Amendment, Preferred Alternative is Alternative F, Incorporating Management Direction for Canada Lynx Habitat by Amending Land and Resource Management Plans, for Arapaho-Roosevelt, Pike-San Isabel, Grand Mesa-Uncompahgre-Gunnison, San Juan, Rio Grande and Medicine Bow-Routt National Forests, Implementation, CO and WY

Summary: EPA supports the new, modified preferred alternative which should reduce potential adverse impacts to the Canada lynx. However, we have concerns that adequate resources may not be available for monitoring and adaptive management, and continuing analysis and research regarding lynx conservation and recovery.

EIS No. 20080465, ERP No. F-AFS-J65488-WY, Battle Park Cattle and Horse (C&H) and Mistymoon Sheep and Goat (S&G) Allotment Project, Proposes to Continue Livestock Grazing on both Allotments, Powder River Ranger District, Bighorn National Forest, Bighorn County, WY

Summary: EPA continues to have concerns about the adaptive management plan and the frequency of monitoring environmental impacts.

EIS No. 20080473, ERP No. F-USN-E11064-FL, Mayport Naval Station Project, Proposed Homeporting of Additional Surface Ships, Several Permits, Mayport, FL

Summary: EPA's previous concerns have been resolved; therefore, EPA does not object to the proposed action.

Dated: December 29, 2008.
Robert W. Hargrove,
Director, NEPA Compliance Division, Office of Federal Activities.

[FR Doc. E8-31216 Filed 12-31-08; 8:45 am]

BILLING CODE 6560-50-P